DEPARTMENT OF ENERGY

Federal Energy Regulatory Commission

[Project No. 3511-024]

Lower Saranac Hydro, LLC; Notice of Denial of Water Quality Certification

On May 29, 2020, Lower Saranac Hydro, LLC (Lower Saranac Hydro) filed an application for a license for the Groveville Hydroelectric Project (project) in the above captioned docket. Lower Saranac Hydro filed with the New York State Department of Environmental Conservation (New York DEC) a request for water quality certification for the project under section 401(a)(1) of the Clean Water Act on July 2, 2021. On June 6, 2022, the New York DEC denied certification for the project. Pursuant to 40 CFR 121.8, we are providing notice that New York DEC's denial satisfies the requirements of 40 CFR 121.7(e).

Dated: June 28, 2022.
Kimberly D. Bose,
Secretary.

[FR Doc. 2022-14232 Filed 7-1-22; 8:45 am]

BILLING CODE 6717-01-P